DEPARTMENT OF EDUCATION

34 CFR Parts 668, 674, 682, and 685

Federal Student Aid Programs (Student Assistance General Provisions, Federal Perkins Loan Program, Federal Direct Loan Program, Federal Family Education Loan Program)

AGENCY: Office of Postsecondary Education, Department of Education.

ACTION: Notice extending the expiration date for the waivers and modifications of statutory and regulatory provisions pursuant to the Higher Education Relief Opportunities for Students (HEROES) Act of 2003, Public Law 108-76.

SUMMARY: We extend the expiration date for the waivers and modifications of statutory and regulatory provisions issued by the Secretary pursuant to the HEROES Act of 2003 and announced in a notice published in the Federal Register on December 12, 2003 (68 FR 69312).

EFFECTIVE DATE: September 30, 2005. The waivers and modifications announced in the December 12, 2003 Federal Register notice expire on September 30, 2007.

FOR FURTHER INFORMATION CONTACT: Wendy Macias, Office of Postsecondary Education, U.S. Department of Education, 1990 K Street, NW., room 8017, Washington, DC 20006-8544. Telephone: (202) 502-7526 or by e-mail: wendy.macias@ed.gov.

If you use a telecommunications device for the deaf (TDD), you may call the Federal Relay Service (FRS) at 1-800-877-8339.

Individuals with disabilities may obtain this document in an alternative format (e.g., Braille, large print, audiotape, or computer diskette) on request to the program contact person listed in this section.

SUPPLEMENTARY INFORMATION: In accordance with the requirements of the HEROES Act of 2003, on December 12, 2003, the Secretary announced in a notice published in the Federal Register, the waivers or modifications of statutory or regulatory provisions that were appropriate to assist individuals who are applicants and recipients of student financial assistance under Title IV of the Higher Education Act of 1965, as amended (HEA), and who—

• Are serving on active duty during a war or other military operation or national emergency;

• Are performing qualifying National Guard duty during a war or other military operation or national emergency;

• Reside or are employed in an area that is declared a disaster area by any Federal, State, or local official in connection with a national emergency; or

• Suffered direct economic hardship as a direct result of a war or other military operation or national emergency, as determined by the Secretary.

Under the terms of the HEROES Act of 2003, these waivers and modifications were scheduled to expire on September 30, 2005. However, on September 30, 2005, the President signed into law Pub. L. 109-78, which extended the expiration date of the HEROES Act of 2003, from September 30, 2005 to September 30, 2007. As a result, we are extending the waivers and modifications announced in the December 12, 2003, Federal Register notice through September 30, 2007.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the code of Federal Regulations is available on GPO Access at: http://www.gpoaccess.gov/nara/index.htm1.

Catalog of Federal Domestic Assistance Numbers: 84.007 Federal Supplemental Educational Opportunity Grant Program; 84.032 Federal Family Education Loan Program; 84.032 Federal PLUS Program; 84.033 Federal Work Study Program; 84.038 Federal Perkins Loan Program; and 84.268 William D. Ford Federal Direct Loan Program.

Program Authority: 20 U.S.C. 1071, 1082, 1087a, 1087aa, Pub. L. 108-76, Pub. L. 109-78.

Dated: October 14, 2005.
Sally L. Stroup,
Assistant Secretary for Postsecondary Education.

[FR Doc. 05-21012 Filed 10-19-05; 8:45 am]

BILLING CODE 4000-01-P